NUCLEAR REGULATORY COMMISSION

[Docket No. 50-271]

Amergen Vermont, LLC; Notice of Withdrawal of Application for Approval of Direct and Indirect License Transfers

The U.S. Nuclear Regulatory Commission (the Commission) has permitted the withdrawal by AmerGen Vermont, LLC of its August 14, 2000, application for approval of certain proposed direct and indirect transfers of Facility Operating License No. DPR-28 for the Vermont Yankee Nuclear Power Station, located in Windham County, Vermont.

The approval of the proposed direct and indirect license transfers would have allowed the transfer of Vermont Yankee Nuclear Power Station under several scenarios from Vermont Yankee Nuclear Power Corporation to AmerGen Vermont, LLC. The transfer of the facility to AmerGen Vermont, LLC will no longer occur.

The Commission had previously issued a Notice of Consideration of Approval of Proposed Direct and Indirect License Transfers published in the Federal Register on August 31, 2000 (65 FR 53037). However, by letter dated August 27, 2001, the applicant withdrew the request for approval.

For further details with respect to this action, see the license transfer application dated August 14, 2000, and the applicant's letter dated August 27, 2001, which withdrew the application. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index/html. If you do not have access to ADAMS or if there are problems in accessing the documents located in ADAMS, contact the NRC Public Document Room (PDR) Reference staff at 1-800-397-4209, 301-415-4737 or by email to pdr@nrc.gov.

Dated at Rockville, Maryland, this 5th day of November 2001.
For the Nuclear Regulatory Commission.
Robert M. Pulsifer,
Project Manager, Section 2, Project Directorate I, Division of Licensing Project Management, Office of Nuclear Reactor Regulation.

[FR Doc. 01-28185 Filed 11-8-01; 8:45 am]

BILLING CODE 7590-01-P